DEPARTMENT OF ENERGY

Federal Energy Regulatory Commission

[Project No. 9421-000]

James D. Sysko; Notice of Intent To Terminate Exemption (5 MW or Less) and Soliciting Comments, Protests, or Motions To Intervene

Take notice that the following hydroelectric proceeding has been initiated by the Commission:

a. Type of Proceeding: Notice of Intent To Terminate Exemption.

b. Project No.: 9421-000.

c. Date Initiated: August 21, 2014.

d. Exemptee: James D. Sysko.

e. Name and Location of Project: The Gardner Brook Hydroelectric Project is located on Gardner Brook, in Oxford County, Maine.

f. Exemptee Contact Information: James D. Sysko, 524 Jims Drive, Newry, ME 04261, (207) 824-3244 and Penny Percival, P.O. Box 366, Andover, ME 04216.

g. FERC Contact: Ashish Desai, (202)502-8370, Ashish.Desai@ferc.gov.

h. Deadline for filing comments, protests, or motions to intervene is 30 days from the issuance of this notice by the Commission. Please file your submittal electronically via the Internet (eFiling) in lieu of paper. Please refer to the instructions on the Commission's Web site under http://www.ferc.gov/docs-filing/efiling.asp and filing instructions in the Commission's Regulations at 18 CFR section 385.2001(a)(1)(iii). To assist you with eFilings you should refer to the submission guidelines document at http://www.ferc.gov/help/submission-guide/user-guide.pdf. In addition, certain filing requirements have statutory or regulatory formatting and other instructions. You should refer to a list of these “qualified documents” at http://www.ferc.gov/docs-filing/efiling/filing.pdf. You must include your name and contact information at the end of your comments. Please include the project number (P-9421-000) on any documents or motions filed. The Commission strongly encourages electronic filings; otherwise, you should submit an original and seven copies of any submittal to the following address: The Secretary, Federal Energy Regulatory Commission, Mail Code: DHAC, PJ-12, 888 First Street NE., Washington, DC 20426.

i. Description of Project Facilities: (1) 10-Acre impoundment; (2) 14-foot-high, 100-foot-long timber crib dam with concrete cap; (3) 12-inch-diameter, 3900-foot-long penstock; (4) a powerhouse containing a single generating unit rated at 50 kW and (5) a 4000-foot-long underground transmission line.

j. Description of Proceeding: The exemptee is in violation of Standard Article 1 of its exemption, which was granted March 27, 1986 (34 FERC ¶62,603). The Commission's regulation, 18 CFR 4.106, provides, among other things, that the Commission reserves the right to revoke an exemption if any term or condition of the exemption is violated.

Commission records indicate that the project stopped operating sometime in early 2007. After several years of correspondence regarding restoring operation to the project or surrounding the exemption, the exemptee has become non-responsive. On December 19, 2013, the Commission sent a letter indicating that the exemptee must file a plan and schedule to restore operation or surrender the project, failure to do so would result in an implied surrender. To date, the exemptee has not filed a response and the project remains inoperable.

k. This notice is available for review and reproduction at the Commission in the Public Reference Room, Room 2A, 888 First Street NE., Washington, DC 20426. The filing may also be viewed on the Commission's Web site at http://www.ferc.gov/docs-filing/elibrary.asp. Enter the Docket number (P-9421-000) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

l. Comments, Protests, or Motions to Intervene: Anyone may submit comments, a protest, or a motion to intervene in accordance with the requirements of Rules of Practice and Procedure, 18 CFR 385.210, .211, .212, .214. In determining the appropriate action to take, the Commission will consider all protests or other comments filed, but only those who file a motion to intervene in accordance with the Commission's Rules may become a party to the proceeding. Any comments, protests, or motions to intervene must be received on or before the specified comment date for the particular proceeding.

m. Filing and Service of Responsive Documents—Any filing must (1) bear in all capital letters the title “COMMENTS, PROTEST,” or “MOTIONS TO INTERVENE,” as applicable; (2) set forth in the heading the project number of the proceeding to which the filing responds; (3) furnish the name, address, and telephone number of the person commenting, protesting, or intervening; and (4) otherwise comply with the requirements of 18 CFR 385.2001 through 385.2005. All comments or protests must set forth their evidentiary basis. All comments, protests, or motions to intervene should relate to project works which are the subject of the termination of exemption. A copy of any protest or motion to intervene must be served on each representative of the exemptee specified in item f above. A copy of all other filings in reference to this notice must be accompanied by proof of service on all persons listed in the service list prepared by the Commission in this proceeding in accordance with 18 CFR 4.34(b) and 385.2010.

n. Agency Comments—Federal, state, and local agencies are invited to file comments on the described proceeding. If any agency does not file comments within the time specified for filing comments, it will be presumed to have no comments.

Dated: August 22, 2014.
Kimberly D. Bose,
Secretary.

[FR Doc. 2014-20766 Filed 8-29-14; 8:45 am]

BILLING CODE 6717-01-P